DEPARTMENT OF ENERGY

[DE-PS03-03SF22698]

Solicitation for Proposals: Nuclear Explosion Monitoring Research and Engineering

AGENCY: National Nuclear Security Administration (NNSA), Department of Energy (DOE) and Air Force Research Laboratory (AFRL).

ACTION: Notice of intent to release solicitation for financial assistance and acquisition proposals.

SUMMARY: The DOE/NNSA and AFRL, through the NNSA Oakland Operations Office, intends to seek proposals to advance the state-of-the-art in nuclear explosion monitoring in the field of seismic methods. This will be achieved through basic and applied research that enhances understanding of the underlying phenomena, proposes new methods of tackling monitoring problems, or develops new data for use in nuclear explosion monitoring. It is anticipated this solicitation will be released on or about November 30, 2002.

ADDRESSES: The formal solicitation document, Joint Solicitation for Proposals: Nuclear Explosion Monitoring Research and Engineering (DE-PS03-03SF22698), will be available through the Industry Interactive Procurement System (IIPS) located at the following URL: http://e-center.doe.gov, (reference Notice of Intent for Nuclear Explosion Monitoring, published November 5, 2002). IIPS provides the medium for disseminating solicitations, receiving proposals and evaluating proposals in a paperless environment. Proposals are required to be submitted via IIPS. Individuals who have the authority to enter into a financial assistance agreement or contract on behalf of their institution and intend to submit a proposal via the IIPS system must register with IIPS and receive confirmation that they are registered prior to being able to submit a proposal. An IIPS “User Guide for Contractor” can be obtained by going to the IIPS Homepage at the following URL: http://e-center.doe.gov and then clicking on the “Help” button. Questions regarding the operation of IIPS may be e-mailed to the IIPS Help Desk at IIPSHelpDesk@e-center.doe.gov or call the help desk at (800) 683-0751.

FOR FURTHER INFORMATION CONTACT: Gloria Abdullah-Lewis, Contract Specialist, U.S. Department of Energy, National Nuclear Security Administration, 1301 Clay Street (Room 700N), Oakland, CA 94612-5208; email gloria.abdullah-lewis@oak.doe.gov.

SUPPLEMENTARY INFORMATION: Research products under this solicitation shall support Air Force requirements in improving the nation's capabilities to monitor nuclear explosion monitoring. Information about the NNSA Nuclear Explosion Monitoring Research & Engineering Program integration of research products into operational form for the Air Force can be found online at http://www.nemre.nn.doe.gov under Knowledge Base. The solicitation document will contain all the information related to this action for prospective proposers. The North American Industry Classification System (NAICS) number for this program is 541710.

Issued in Oakland, CA on November 18, 2002.
Ernest Rios,
Division Director, Financial Assistance Center, Oakland Operations Office.

[FR Doc. 02-29864 Filed 11-22-02; 8:45 am]

BILLING CODE 6450-01-P